DEPARTMENT OF THE TREASURY

Customs Service

[T.D. 00-58]

Delegations of Authority To Decide Petitions for Relief

AGENCY: Customs Service, Treasury.

ACTION: General notice.

SUMMARY: This notice advises the public of the delegations of authority to decide petitions and supplemental petitions submitted pursuant to Parts 171 or 172 of the Customs Regulations granted to Fines, Penalties, and Forfeitures Officers; Headquarters officials in field locations; the Chief, Penalties Branch, Office of Regulations and Rulings, Customs Headquarters; the Director, International Trade Compliance Division, Customs Headquarters; and the Assistant Commissioner, Office of Regulations and Rulings, Customs Headquarters, with regard to petitions and supplemental petitions for relief submitted concerning claims for liquidated damages, seizures and penalties incurred under laws administered by Customs. The document also identifies those cases where the Secretary of the Treasury has retained all administrative authority to decide petitions and supplemental petitions for relief.

EFFECTIVE DATE: October 5, 2000.

FOR FURTHER INFORMATION CONTACT: Jeremy Baskin, Penalties Branch, Office of Regulations and Rulings (202) 927-2344.

SUPPLEMENTARY INFORMATION: Notwithstanding any other delegations of authority that have been previously published, the following are delegations of authority granted to the enumerated Customs officers to decide petitions and supplemental petitions for relief under authority granted to the Secretary of the Treasury by sections 618 and 623 of the Tariff Act of 1930, as amended (19 U.S.C. 1618 and 1623), and section 320 of title 46, United States Code App. (46 U.S.C. App. 320), and section 5321 of title 31, United States Code (31 U.S.C. 5321).

I. Original Petitions for Relief

A. Fines, Penalties, and Forfeitures Officers. Fines, Penalties, and Forfeitures Officers are hereby delegated authority to decide original petitions as follows:

(1) Liquidated damages. All claims for liquidated damages arising from breach of the basic importation bond for failing to file or late filing of entry summaries or failing to pay or late payment of estimated duties. Any other claim for liquidated damages for breach of any Customs bond when the amount of the claim does not exceed $200,000.

(2) 19 U.S.C. 1592, 19 U.S.C. 1593a. Any fines, penalties, or forfeitures incurred under the provisions of section 592 of the Tariff Act of 1930, as amended (19 U.S.C. 1592), or section 593A of the Tariff Act of 1930, as amended (19 U.S.C. 1593a), when the total amount of those fines, penalties, or forfeitures does not exceed $50,000.

(3) 19 U.S.C. 1436, 1453, 1595a(b) and 1641. All fines, penalties, or forfeitures incurred under the provisions of sections 436, 453 or 641 of the Tariff Act of 1930, as amended (19 U.S.C. 1436, 19 U.S.C. 1453 and 19 U.S.C. 1641, respectively) and any penalties incurred under the provisions of section 596 of the Tariff Act of 1930, as amended (19 U.S.C. 1595a(b)) for delivering merchandise from the place of unlading without Customs authorization or without appropriate examination in violation of the provisions of section 448 or 499 of the Tariff Act of 1930, as amended (19 U.S.C. 1448 or 19 U.S.C. 1499, respectively) when the amount of the claim does not exceed $200,000.

(4) Other laws administered by Customs. Except as noted in subparagraphs (A)(1), (A)(2) or (A)(3), and except where the Secretary of the Treasury retains jurisdiction: any fines, penalties, or forfeitures or claims for liquidated damages incurred under any other law administered by Customs when the total amount of the fines, penalties, and forfeitures incurred with respect to any one offense does not exceed $100,000.

B. Chief, Penalties Branch, Office of Regulations and Rulings. The Chief, Penalties Branch, Office of Regulations and Rulings, Customs Headquarters, is delegated authority to decide all petitions for relief submitted with regard to cases which are neither enumerated as remaining under the original jurisdiction of the Secretary of the Treasury nor have been delegated to the Fines, Penalties, and Forfeitures Officers.

C. Assistant Commissioner, Office of Regulations and Rulings. Notwithstanding any other delegation of authority, the Assistant Commissioner, Office of Regulations and Rulings, Customs Headquarters, or his delegate, has authority to remit or mitigate any penalties assessed against super carriers for failure to manifest narcotic drugs pursuant to 19 U.S.C. 1584(a)(2).

D. Secretary of the Treasury. The Secretary of the Treasury, or his delegate retains jurisdiction over original petitions for relief filed with regard to the following cases:

(1) Certain civil monetary penalties. All jurisdiction over the remission or mitigation of monetary penalties imposed for violation of the provisions of 31 U.S.C. 5321.

(2) Certain monetary instrument seizures. Seizures, subject to forfeiture under the provisions of title 31, United States Code, section 5317, of monetary instruments for violation of the provisions of title 31, United States Code, section 5316, when the value of the monetary instruments exceeds $500,000.

(3) Export control. Seizures of merchandise subject to forfeiture under the provisions of title 22, United States Code, section 401, when the value of the merchandise exceeds $500,000.

(4) Failure to declare merchandise. All fines, penalties, and forfeitures arising from failure to declare merchandise in violation of the provisions of title 19, United States Code, section 1497, when total liability exceeds $250,000.

(5) Conveyance seizures. Seizures of conveyances for violations other than those involving importation or transportation of controlled substances when the value of the conveyance exceeds $500,000.

(6) Property seized under 18 U.S.C. 981 relating to violations of 18 U.S.C. 1956 or 1957. Seizures of property under 18 U.S.C. 981 relating to violations of 18 U.S.C. 1956 or 1957 when the value of that property exceeds $500,000.

II. Supplemental Petitions for Relief

A. Decisions of Fines, Penalties, and Forfeitures Officers. Supplemental petitions filed on cases where the original decision was made by the Fines, Penalties, and Forfeitures Officer will be initially reviewed by that official. The Fines, Penalties, and Forfeitures Officer may choose to grant more relief and issue a decision indicating additional relief to the petitioner. If the petitioner is dissatisfied with the further relief granted or if the Fines, Penalties, and Forfeitures Officer decides to grant no further relief, the supplemental petition will be forwarded to a designated Headquarters official assigned to a field location for review and decision, except that supplemental petitions filed in cases involving violations of 19 U.S.C. 1641 where the amount of the penalty assessed exceeds $10,000 will be forwarded to the Chief, Penalties Branch, Office of Regulations and Rulings, Customs Headquarters.

B. Decisions of the Chief, Penalties Branch, Office of Regulations and Rulings. Supplemental petitions filed on cases where the original decision was made by the Chief, Penalties Branch, Office of Regulations and Rulings, Customs Headquarters, and the Chief, Penalties Branch, believes that no further relief is warranted will be forwarded to the Director, International Trade Compliance Division, Customs Headquarters, for review and decision.

C. Decisions of the Assistant Commissioner, Office of Regulations and Rulings. Supplemental petitions filed on cases where the original decision was made by the Assistant Commissioner, Office of Regulations and Rulings, Customs Headquarters, or his delegate, will be retained by the Assistant Commissioner, Office of Regulations and Rulings, for review and decision, and will not be delegated.

D. Decisions of Treasury Department. Supplemental petitions filed on cases where the original decision was made in the Treasury Department will be forwarded to the Chief, Penalties Branch, Office of Regulations and Rulings, Customs Headquarters, where decisions on the supplemental petitions will be prepared for the Treasury Department for review and approval.

III. Authority of the Assistant Commissioner, Office of Regulations and Rulings

All authority delegated to Headquarters personnel set forth in this document is also vested in the Assistant Commissioner, Office of Regulations and Rulings, Customs Headquarters.

Raymond W. Kelly,
Commissioner of Customs.
Approved: July 25, 2000.
John P. Simpson,
Deputy Assistant Secretary of the Treasury.

[FR Doc. 00-22347 Filed 9-1-00; 8:45 am]

BILLING CODE 4820-02-P